DEPARTMENT OF HOMELAND SECURITY

Coast Guard

33 CFR Part 117

[CGD05-04-070]

RIN 1625-AA09

Drawbridge Operation Regulations; Kent Island Narrows, MD

AGENCY: Coast Guard, DHS.

ACTION: Notice of temporary deviation from regulations and request for comments.

SUMMARY: The Commander, Fifth Coast Guard District, has issued a temporary deviation from the drawbridge operation regulations to test an alternate drawbridge operation regulation for the U.S. Route 50/301 Bridge, mile 1.0, across Kent Island Narrows at Kent Island, Maryland. Under this temporary 90-day deviation, from May 1, through July 29, from 6 a.m. to 9 p.m., the bridge will open on the hour and half hour for the passage of all waiting vessels. The purpose of this temporary deviation is to test an alternate drawbridge operation schedule for 90 days and solicit comment from the public.

DATES: This deviation is effective from May 1, 2004, through July 29, 2004. Comments must reach the Coast Guard on or before 31 August 2004.

ADDRESSES: You may mail comments and related material to Commander (obr), Fifth Coast Guard District, Federal Building, 4th Floor, 431 Crawford Street, Portsmouth, Virginia 23704-5004, or they may be hand delivered to the same address between 8 a.m. and 4 p.m., Monday through Friday, except Federal Holidays. The Commander (obr), Fifth Coast Guard District maintains the public docket for this test deviation. Comments and material received from the public, as well as documents indicated in this preamble as being available in the docket, will become part of this docket and will be available for inspection or copying at the above address.

Request for Comments

We encourage you to participate in evaluating this test schedule by submitting comments and related material. If you do so, please include your name and address, identify the docket number for this test deviation CGD05-04-070, indicate the specific section of this document to which each comment applies, and give the reason for each comment. Please submit all comments and related material in an unbound format, no larger than 8½ by 11 inches, suitable for copying. If you would like to know they reached us, please enclose a stamped, self-addressed postcard or envelope. We will consider all comments and material received during the comment period.

FOR FURTHER INFORMATION CONTACT: Bill Brazier, Bridge Management Specialist, Fifth Coast Guard District, at (757) 398-6422.

SUPPLEMENTARY INFORMATION: The U.S. Route 50/301 Bridge across Kent Island Narrows has a vertical clearance in the closed position of 18 feet at mean high water and 19 feet at mean low water. The existing drawbridge operation regulations are listed at 33 CFR 117.561. The bridge owner, the Maryland State Highway Authority, requested a temporary deviation from the drawbridge operation regulations to test for a period of 90 days an alternate drawbridge operation schedule. This deviation will expand the time the bridge is required to open to vessel traffic to on the hour and half hour for the period specified. This will assist in determining if additional openings are needed. The current bridge opening schedule has impacted navigational users attempting to transit through the bridge.

The existing drawbridge operation regulations, outlined at 33 CFR 117.561 (b), states that: from May through October 31, on Monday (except when Monday is a holiday) through Thursday (except when Thursday is the day before a Friday holiday), the draw shall open on signal on the hour from 7 a.m. to 7 p.m., but need not be opened at any other time; on Friday (except when Friday is a holiday) and on Thursday when it is the day before a Friday holiday, the draw shall open on signal on the hour from 6 a.m. to 3 p.m. and at 8 p.m., but need not be opened at any other time; on Saturday and on a Friday holiday, the draw shall open on signal at 6 a.m. and 12 noon and on signal on the hour from 3 p.m. to 8 p.m., but need not be opened at any other time; on Sunday and on a Monday holiday, the draw shall open on signal on the hour from 6 a.m. to 1 p.m., and at 3:30 p.m., but need not opened at any other time; the draw shall open at scheduled opening times only if vessels are waiting to pass. At each opening, the draw shall remain open for a sufficient period of time to allow passage of all waiting vessels; and if a vessel is approaching the bridge and cannot reach the bridge exactly on the hour, the drawtender may delay the hourly opening up to ten minutes past the hour for the passage of the approaching vessel and any other vessels that are waiting to pass.

Under this 90-day temporary deviation, effective from May 1, 2004 through July 29, 2004, the U.S. Route 50/301 Bridge across Kent Island Narrows will open from 6 a.m. to 9 p.m., on the hour and half hour, until all waiting vessels have passed.

This deviation from the operating regulations is authorized under 33 CFR 117.43.

Dated: April 9, 2004.
Waverly W. Gregory, Jr.,
Chief, Bridge Branch, Fifth Coast Guard District.

[FR Doc. 04-8710 Filed 4-15-04; 8:45 am]

BILLING CODE 4910-15-P